DEPARTMENT OF LABOR

Employment and Training Administration

[TA-W-51,403]

Clariant Corporation, Oak Creek, WI; Notice of Revised Determination on Reconsideration

By application of June 12, 2003, a company official requested administrative reconsideration regarding the Department's Negative Determination Regarding Eligibility to Apply for Worker Adjustment Assistance, applicable to the workers of the subject firm.

The initial investigation resulted in a negative determination issued on April 30, 2003, based on the finding that criterion 3(A) (the workers' firm is a supplier and the component parts it supplied for the primary firm accounted for at least 20 percent of the production or sales of the workers' firm) and 3(B)(a loss of business by the workers' firm with the primary firm contributed importantly to the workers' separation or threat of separation) have not been met. The denial notice was published in the Federal Register on May 9, 2003 (68 FR 25060).

Pursuant to the receipt of the request for reconsideration, which included subject firm customers not provided in the initial investigation, it has become apparent that Clariant Corporation, Oak Creek, Wisconsin supplies component parts for leather and a loss of business with a manufacturers (whose workers were certified eligible to apply for adjustment assistance) contributed importantly to the workers separation or threat of separation.

Conclusion

After careful review of the facts obtained in the investigation, I determine that workers of Clariant Corporation, Oak Creek, Wisconsin qualify as adversely affected secondary workers under Section 222 of the Trade Act of 1974. In accordance with the provisions of the Act, I make the following certification:

All workers of Clariant Corporation, Oak Creek, Wisconsin, who became totally or partially separated from employment on or after April 1, 2002 through two years from the date of this certification, are eligible to apply for adjustment assistance under Section 223 of the Trade Act of 1974.

Signed in Washington, DC, this 17th day of October, 2003.
Elliott S. Kushner,
Certifying Officer, Division of Trade Adjustment Assistance.

[FR Doc. 03-29543 Filed 11-25-03; 8:45 am]

BILLING CODE 4510-30-P